DEPARTMENT OF THE INTERIOR

National Park Service

National Register of Historic Places; Notification of Pending Nominations and Related Actions

Nominations for the following properties being considered for listing or related actions in the National Register were received by the National Park Service before September 29, 2007. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by October 30, 2007.

J. Paul Loether,
Chief, National Register of Historic Places/National Historic Landmarks Program.

ARKANSAS

Arkansas County

Wallace Bottom, Address Restricted, Tichnor, 07001147.

COLORADO

Chaffee County

Alexander House, 846 F St., Salida, 07001148.

Kit Carson County

Hudson, Sim, Motor Company, 1332 Senter Ave., Burlington, 07001149.

MAINE

Androscoggin County

Lisbon Falls High School, 4 Campus Ave., Lisbon Falls, 07001150.

Hancock County

Farm House, The, 15 Highbrook Rd., Bar Harbor, 07001152.

Knox County

Common, The, Between Common & Burkett Rds., Union, 07001151.

York County

Brave Boat Harbor Farm, 110 Raynes Neck Rd., York, 07001153.

MISSOURI

Clay County

Atkins—Johnson Farmhouse Property, 6508 N. Jackson Ave., Gladstone, 07001154.

Jackson County

Armour Boulevard Post-World War II Apartment Building Historic District, (Working-Class and Middle-Income Apartment Buildings in Kansas City, Missouri MPS), 640 & 701 E. Armour Blvd. & 3457 Holmes St., Kansas City, 07001155.

Gillham Court Apartments Building, (Working-Class and Middle-Income Apartment Buildings in Kansas City, Missouri MPS) 3411 Gillham Rd., Kansas City, 07001156.

Platte County

TWA Administrative Offices Building, 11500 Ambassador Dr., Kansas City, 07001157.

St. Louis Independent city

Olive and Locust Historic Business District, (Auto-Related Resources of St. Louis, Missouri MPS) Roughly bounded by N. Jefferson, Olive, 21st & St. Charles Sts., St. Louis (Independent City), 07001158.

OREGON

Crook County

Roba Ranch, The, 66953 Roba Ranch Rd., Paulina, 07001159.

PENNSYLVANIA

Bucks County

Uneek Havana Cigar Company, 1259 PA 113 (Hilltown Township), Blooming Glen, 07001160.

Monroe County

Shawnee—Minisink Site, Address Restricted, Minisink Hills, 07001161.

Washington County

Charleroi Historic District, Roughly bounded by 1st & 13th Sts., Oakland Ave. & Pennsylvania RR tracks. Charleroi Borough, 07001162.

TENNESSEE

Davidson County

Beech Grove, (Historic Family Farms in Middle Tennessee MPS) 8423 Old Harding Pike, Nashville, 07001163.

Hardeman County

Robertson Family Farm, 2715 Newsom Rd., Whiteville, 07001164.

Shelby County

Knickerbocker Apartments, The, 23-25 S. McLean Blvd., Memphis, 07001165.

Pippin Roller Coaster, Mid-South Fairgrounds bounded by E. Pkwy., Central & Southern Aves. & Early Maxwell Blvd., Memphis, 07001166.

Unicoi County

Brown, A.R., House, 241 S. Main Ave., Erwin, 07001167.

UTAH

Salt Lake County

Yalecrest Historic District, Roughly bounded by Sunnyside Ave. (840 S.) to 1300 S. & 1300 E. to 1800 E., Salt Lake City, 07001168.

Tooele County

Davis, David E. House, 400 E. UT 199, Rush Valley, 07001172.

Utah County

Providence Historic District, Roughly bounded by 200 N., 400 E., 500 S. & 200 W., Providence, 07001169.

VERMONT

Rutland County

Kingsley Grist Mill Historic District, East St. & Gorge Rd., Clarendon, 07001170.

Windsor County

Southview Housing Historic District, 1-107 Stanley Rd., Springfield, 07001171.

A request for REMOVAL has been made for the following resources:

COLORADO

Denver County

Beierle Farm, (Denver International Airport MPS) Hudson Rd., just N. of Irondale Rd., Watkins, 92001673.

TENNESSEE

Shelby County

Douglass High School, 3200 Mt. Olive Rd., Memphis, 98000241.

[FR Doc. E7-20274 Filed 10-12-07; 8:45 am]

BILLING CODE 4312-51-P